DEPARTMENT OF TRANSPORTATION

Federal Aviation Administration

14 CFR Part 39

[Docket No. 2001-NM-239-AD; Amendment 39-13529; AD 2004-06-03]

RIN 2120-AA64

Airworthiness Directives; Airbus Model A319, A320, and A321 Series Airplanes

AGENCY: Federal Aviation Administration, DOT.

ACTION: Final rule.

SUMMARY: This amendment adopts a new airworthiness directive (AD), applicable to certain Airbus Model A319, A320, and A321 series airplanes, that requires checking the identification plate on the ram air turbine (RAT) actuator and re-identifying the actuator or replacing the actuator with one which has been cleaned and tested by its manufacturer. This action is necessary to prevent jamming of the RAT actuator in an emergency which requires deployment of the RAT, and consequent loss of hydraulic and electrical power in the airplane. This action is intended to address the identified unsafe condition.

DATES: Effective April 22, 2004.

The incorporation by reference of certain publications listed in the regulations is approved by the Director of the Federal Register as of April 22, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A319, A320, and A321 series airplanes was published in the Federal Register on December 17, 2003 (68 FR 70210). That action proposed to require checking the identification plate on the ram air turbine (RAT) actuator and re-identifying the actuator or replacing the actuator with one which has been cleaned and tested by its manufacturer.

Comments

Interested persons have been afforded an opportunity to participate in the making of this amendment. No comments were submitted in response to the proposal or the FAA's determination of the cost to the public.

Conclusion

The FAA has determined that air safety and the public interest require the adoption of the rule as proposed.

Cost Impact

The FAA estimates that 195 airplanes of U.S. registry will be affected by this AD, that it will take approximately 5 work hours per airplane to accomplish the required actions, and that the average labor rate is $65 per work hour. There would be no cost for required parts. Based on these figures, the cost impact of the AD on U.S. operators is estimated to be $63,375, or $325 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-06-03 Airbus: Amendment 39-13529. Docket 2001-NM-239-AD.

Applicability: Model A320 series airplanes which have received modification 27189; Model A319 series airplanes; and Model A321 series airplanes, provided that none has received modification 30978 or 28413; certificated in any category.

Compliance: Required as indicated, unless accomplished previously.

To prevent jamming of the ram air turbine (RAT) actuator in an emergency which requires deployment of the RAT, and consequent loss of hydraulic and electrical power in the airplane, accomplish the following:

Extension of RAT Actuator

(a) Within 31 months after the effective date of this AD: Extend the existing RAT actuator, in accordance with the Accomplishment Instructions of Airbus Service Bulletin A320-29-1098, Revision 02, dated February 20, 2003.

Determination of Identification of RAT Actuator

(b) Immediately after accomplishment of paragraph (a) of this AD: Check the identification plate on the RAT actuator to determine the part number (P/N), the serial number, and whether there is a notation in the Amend Block, in accordance with the Accomplishment Instructions of Hamilton Sundstrand/Arkwin Industries Service Bulletin ERPS08A-29-2, dated February 22, 2001.

Retraction, Re-identification, or Replacement of RAT Actuator

(c) Depending upon the identification of the RAT actuator, accomplish the follow-on action indicated in Table 1 of this AD, in accordance with the Accomplishment Instructions of Airbus Service Bulletin A320-29-1098, Revision 02, dated February 20, 2003.

Table 1.—Follow-on Actions
If the P/N is— | And the Amend Block is marked with an “A”— | And the serial number is— | Then—
764711A | N/A | N/A | No further action is required.
764711 | No | N/A | Prior to further flight, remove the RAT actuator and replace it with one which has been cleaned, tested and re- identified by its manufacturer.
764711 | Yes | 0868-0889 | Prior to further flight, remove the RAT actuator and replace it with one which has been cleaned, tested and re- identified by its manufacturer.
764711 | Yes | Other than 0868-0889 | Prior to further flight, reidentify the RAT actuator, in accordance with paragraph 2.G. of the Accomplishment Instructions of Hamilton Sundstrand/Arkwin Industries Service Bulletin ERPS08A-29-2, dated February 22, 2001.

Parts Installation

(d) As of the effective date of this AD: No person may install an Arkwin Industries RAT actuator having P/N 764711 on any Airbus Model A319, A320, or A321 airplane, unless it is in compliance with this AD.

Incorporation by Reference

(e) The actions shall be done in accordance with Airbus Service Bulletin A320-29-1098, Revision 02, dated February 20, 2003; and Hamilton Sundstrand/Arkwin Industries Service Bulletin ERPS08A-29-2, dated February 22, 2001; as applicable. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 1: The subject of this AD is addressed in French airworthiness directive 2001-236(B) R1, dated December 24, 2002.

Effective Date

(f) This amendment becomes effective on April 22, 2004.

Issued in Renton, Washington, on March 9, 2004.
Kalene C. Yanamura,
Acting Manager, Transport Airplane Directorate, Aircraft Certification Service.

[FR Doc. 04-5848 Filed 3-17-04; 8:45 am]

BILLING CODE 4910-13-P